ENVIRONMENTAL PROTECTION AGENCY

[EPA-HQ-OPPT-2009-0929; FRL-9226-6]

Agency Information Collection Activities; Submission to OMB for Review and Approval; Comment Request; Request for Contractor Access to TSCA Confidential Business Information; EPA ICR No. 1250.09, OMB Control No. 2070-0075

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. The ICR, which is abstracted below, describes the nature of the information collection activity and its expected burden and costs.

DATES: Additional comments may be submitted on or before December 15, 2010.

ADDRESSES: Submit your comments, referencing docket ID Number EPA-HQ-OPPT-2009-0929, (1) to EPA online using http://www.regulations.gov (our preferred method) or by mail to: Document Control Office (DCO), Office of Pollution Prevention and Toxics (OPPT), Environmental Protection Agency, Mail Code: 7407T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Pamela Myrick, Acting Director, Environmental Assistance Division, Office of Pollution Prevention and Toxics, Environmental Protection Agency, Mailcode: 7408-M, 1200 Pennsylvania Ave., NW., Washington, DC 20460; telephone number: 202-554-1404; e-mail address: TSCA-Hotline@epa.gov.

SUPPLEMENTARY INFORMATION: EPA has submitted the following ICR to OMB for review and approval according to the procedures prescribed in 5 CFR 1320.12. On March 24, 2010 (75 FR 14150), EPA sought comments on this renewal ICR pursuant to 5 CFR 1320.8(d). EPA received no comments during the comment period. Any additional comments related to this ICR should be submitted to EPA and OMB within 30 days of this notice.

EPA has established a public docket for this ICR under Docket ID No. EPA-HQ-OPPT-2009-0929, which is available for online viewing at http://www.regulations.gov, or in person inspection at the OPPT Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Pollution Prevention and Toxics Docket is 202-566-0280.

Use EPA's electronic docket and comment system at http://www.regulations.gov to submit or view public comments, access the index listing of the contents of the public docket, and to access those documents in the public docket that are available electronically. Once in the system, select “docket search,” then key in the docket ID number identified above. Please note that EPA's policy is that public comments, whether submitted electronically or in paper, will be made available for public viewing in http://www.regulations.gov as EPA receives them and without change, unless the comment contains copyrighted material, confidential business information (CBI), or other information whose public disclosure is restricted by statute. When EPA identifies a comment containing copyrighted material, EPA will provide a reference to that material in the version of the comment that is placed in http://www.regulations.gov. The entire printed comment, including the copyrighted material, will be available in the public docket. Although identified as an item in the official docket, information claimed as CBI, or whose disclosure is otherwise restricted by statute, is not included in the official public docket, and will not be available for public viewing in www.regulations.gov. For further information about the electronic docket, go to http://www.regulations.gov.

Title: Request for Contractor Access to TSCA Confidential Business Information (CBI).

ICR Numbers: EPA ICR No. 1250.09, OMB Control No. 2070-0075.

ICR Status: This is a request to renew an existing approved collection that is scheduled to expire on November 30, 2010. Under OMB regulations, the Agency may continue to conduct or sponsor the collection of information while this submission is pending at OMB.

Abstract: Submitters of information to EPA under the Toxic Substances Control Act (TSCA) may claim all or part of the information confidential. EPA will disclose information that is covered by a claim of confidentiality only to the extent permitted by, and in accordance with, the procedures in TSCA section 14 and 40 CFR part 2. One such circumstance is covered by this ICR. Specifically, certain employees of companies working under contract to EPA require access to CBI collected under the authority of TSCA in order to perform their official duties. The Office of Pollution Prevention and Toxics (OPPT), which is responsible for maintaining the security of TSCA CBI, requires that all individuals desiring access to TSCA CBI obtain and annually renew official clearance to TSCA CBI. As part of the process for obtaining TSCA CBI clearance, OPPT requires certain information about the contracting company and about each contractor employee requesting TSCA CBI clearance, primarily the name, EPA badge number or other identification of the employee, the type of TSCA CBI clearance requested and the justification for such clearance, and the signature of the employee to an agreement with respect to access to and use of TSCA CBI.

Responses to the collection of information are voluntary, but failure to provide the requested information will prevent a contractor employee from obtaining clearance to TSCA CBI.

Burden Statement: The annual public reporting burden for this collection of information is estimated to average 1.6 hours per response. Burden is defined in 5 CFR 1320.3(b).

Respondents/Affected Entities: Entities potentially affected by this action are companies under contract to the Environmental Protection Agency to provide certain services, whose employees must have access to TSCA confidential business information to perform their duties.

Frequency of Collection: On occasion.

Estimated average number of responses for each respondent: 13 (rounded up from 12.5).

Estimated Number of Respondents: 30.

Estimated Total Annual Burden on Respondents: 601 hours.

Estimated Total Annual Costs: $30,253.

Changes in Burden Estimates: There is an increase of 155 hours (from 446 hours to 601 hours) in the total estimated respondent burden compared with that identified in the information collection most recently approved by OMB. This reflects an increase in the estimated number of contractor employees subject to this information collection. The increase is an adjustment.

Dated: November 8, 2010.
John Moses,
Director, Collection Strategies Division.

[FR Doc. 2010-28656 Filed 11-12-10; 8:45 am]

BILLING CODE 6560-50-P